DEPARTMENT OF JUSTICE

[OMB Number 1117-0023]

Agency Information Collection Activities; Proposed eCollection, eComments Requested; Extension Without Change of a Previously Approved Collection; Import/Export Declaration for List I and List II Chemicals; DEA Forms 486, 486A

AGENCY: Drug Enforcement Administration, Department of Justice.

ACTION: 30-Day notice.

SUMMARY: The Department of Justice (DOJ), Drug Enforcement Administration (DEA), will be submitting the following information collection request to the Office of Management and Budget (OMB) for review and approval in accordance with the Paperwork Reduction Act of 1995.

DATES: Comments are encouraged and will be accepted for 30 days until September 9, 2020.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information proposed to be collected can be enhanced; and

—Minimize the burden of the collection of information on those who are to respond, including through the use of appropriate automated, electronic, mechanical, or other forms of information technology, e.g., permitting electronic submission of responses.

Overview of This Information Collection

1. Type of Information Collection: Extension of a currently approved collection.

2. Title of the Form/Collection: Import/Export Declaration for List I and List II Chemicals.

3. The agency form number, if any, and the applicable component of the Department sponsoring the collection: DEA Forms: 486, 486A. The applicable component within the Department of Justice is the Drug Enforcement Administration, Diversion Control Division.

4. Affected public who will be asked or required to respond, as well as a brief abstract:

Affected public (Primary): Business or other for-profit.

Affected public (Other): Not-for-profit institutions; Federal, State, local, and tribal governments.

Abstract: Section 1018 of the Controlled Substances Import and Export Act (CSIEA) (21 U.S.C. 971) and Title 21 Code of Federal Regulations (21 CFR) part 1313 require any persons who import, export, or conduct international transactions involving list I and list II chemicals are required to establish a system of recordkeeping and report certain information regarding those transactions to DEA. The chemicals subject to control are used in the clandestine manufacture of controlled substances. The reports of domestic, import, and export regulated transactions in listed chemicals are submitted electronically through the Diversion Control Division secure network application. Any person who desires to import non-narcotic substances in schedules III, IV, and V must electronically file their return information. Any person who desires to export non-narcotic substances in schedules III and IV and any other substance in schedule V is also required to electronically file a controlled substances import declaration/controlled substance export invoice.

5. An estimate of the total number of respondents and the amount of time estimated for an average respondent to respond: The below table presents information regarding the number of respondents, responses and associated burden hours.

| Number of annual respondents | Number of annual responses | Average time per response (hours) | Total annual hours
DEA-486—Import | 132 | 2,153 | 0.33 (20 minutes) | 718
DEA-486—Export | 227 | 13,142 | 0.28 (17 minutes) | 3,724
DEA-486—International | 20 | 424 | 0.28 (17 minutes) | 120
DEA-486A—Import | 38 | 697 | 0.40 (24 minutes) | 279
Total | 417 | 16,416 |  | 4,840

6. An estimate of the total public burden (in hours) associated with the proposed collection: DEA estimates that this collection takes 4,840 annual burden hours.

If additional information is required please contact: Melody Braswell, Department Clearance Officer, United States Department of Justice, Justice Management Division, Policy and Planning Staff, Two Constitution Square, 145 N Street NE, Suite 3E.405B, Washington, DC 20530.

Dated: August 5, 2020.
Melody Braswell,
Department Clearance Officer for PRA, U.S. Department of Justice.

[FR Doc. 2020-17375 Filed 8-7-20; 8:45 am]

BILLING CODE 4410-09-P